DEPARTMENT OF HEALTH AND HUMAN SERVICES

Centers for Disease Control and Prevention

[30Day-18-0199]

Agency Forms Undergoing Paperwork Reduction Act Review

In accordance with the Paperwork Reduction Act of 1995, the Centers for Disease Control and Prevention (CDC) has submitted the information collection request titled Application for Permit to Import Biological Agents and Vectors of Human Disease into the United States and Application for Permit to Import or Transport Live Bats (42 CFR 71.54) to the Office of Management and Budget (OMB) for review and approval. CDC previously published a “Proposed Data Collection Submitted for Public Comment and Recommendations” notice on September 26, 2017 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Import Permit Applications (42 CFR 71.54) (OMB Control Number 0920-0199, expires 12/31/2019)—Revision—Office of Public Health Preparedness and Response (OPHPR), Centers for Disease Control and Prevention (CDC).

Background and Brief Description

On September 26, 2017, CDC published a 60-day Federal Register notice (82 FR 44795) seeking public comments to initiate a revision of the information collection projects titled “Application for Permit to Import Biological Agents, Infectious Substances and Vectors of Human Disease into the United States” and “Application for Permit to Import or Transport Live Bats.” As a result of this notice, CDC received three comments. One commenter requested that we make the “Application for Permit to Import Biological Agents, Infectious Substances and Vectors of Human Disease into the United States” form fillable so that applicants are able to complete the electronically. We made no changes based on this comment but note that the form will be published as a pdf-fillable form so that applicants have the ability to save the document to the applicant's local drive, complete the form, and then mail or fax the application to CDC. The other two comments did not pertain to the changes to the forms. Therefore, we made no changes to forms based on these comments.

The Application for Permit to Import Biological Agents, Infectious Substances and Vectors of Human Disease into the United States form is used by laboratory facilities, such as those operated by government agencies, universities, and research institutions to request a permit for the importation of biological agents, infectious substances, or vectors of human disease. This form has been revised to remove questions that are duplicative or not required to process the import permit request and added questions requesting biosafety officer's contact information and verifying biosafety measures for any subsequent transfers listed on the import permit application of infectious biological agent, infectious substance, and/or vector once in the United States.

The Application for Permit to Import or Transport Live Bats form is used by laboratory facilities such as those operated by government agencies, universities, research institutions, and for educational, exhibition or scientific purposes to request a permit for the importation, and any subsequent distribution after importation, of live bats. This form currently requests the applicant and sender contact information; a description and intended use of bats to be imported; and facility isolation and containment information. CDC revised this application to add a question about what personal protective measures will be used.

Estimates of burden for the survey are based on information obtained from the CDC import permit database on the number of permits issued on annual basis since 2010. CDC estimates 1,322 burden hours for this collection.

Estimated Annualized Burden Hours
Type of respondent | Form name | Number of respondents | Number of responses per respondent | Average burden per response (in hours)
Applicants Requesting to Import Biological Agents, Infectious Substances and Vectors | Application for Permit to Import Biological Agents, Infectious Substances and Vectors of Human Disease into the United States | 2,000 | 1 | 20/60
Applicants Requesting to Import Biological Agents, Infectious Substances and Vectors | Application for Permit to Import Biological Agents, Infectious Substances and Vectors of Human Disease into the United States Guidance | 2,000 | 1 | 10/60
Applicants Requesting to Import Biological Agents, Infectious Substances and Vectors | Application for Permit to Import Biological Agents, Infectious Substances and Vectors of Human Disease into the United States-Subsequent Transfer | 380 | 1 | 50/60
Applicants Requesting to Import Live Bats | Application for a Permit to Import Live Bats | 10 | 1 | 20/60
Applicants Requesting to Import Live Bats | Application for a Permit to Import Live Bats Guidance | 10 | 1 | 10/60

Leroy A. Richardson,
Chief, Information Collection Review Office, Office of Scientific Integrity, Office of the Associate Director for Science, Office of the Director, Centers for Disease Control and Prevention.

[FR Doc. 2018-04742 Filed 3-8-18; 8:45 am]

BILLING CODE 4163-18-P